DEPARTMENT OF HOMELAND SECURITY

Federal Emergency Management Agency

[Docket ID FEMA-2022-0002; Internal Agency Docket No. FEMA-B-2296]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before March 21, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2296, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

*
Community | Community map repository address
Maricopa County, Arizona and Incorporated Areas
Project: 17-09-0411S Preliminary Dates: October 4, 2021 and August 26, 2022
City of Buckeye | City Hall, 530 East Monroe Avenue, Buckeye, AZ 85326.
City of Goodyear | Development Counter, 1900 North Civic Square, Goodyear, AZ 85395.
Town of Gila Bend | Town Hall, 644 West Pima Street, Gila Bend, AZ 85337.
Unincorporated Areas of Maricopa County | Flood Control District of Maricopa County, 2801 West Durango Street, Phoenix, AZ 85009.
Riverside County, California and Incorporated Areas
Project: 19-09-0025S Preliminary Date: May 25, 2022.
City of Corona | City Hall, 400 South Vicentia Avenue, Corona, CA 92882.
City of Eastvale | City Hall, Public Works Department, 12363 Limonite Avenue, Suite 910, Eastvale, CA 91752.
City of Jurupa Valley | City Hall, 8930 Limonite Avenue, Jurupa Valley, CA 92509.
City of Norco | City Hall, 2870 Clark Avenue, Norco, CA 92860.
City of Riverside | Public Works, 3900 Main Street, 4th Floor, Riverside, CA 92522.
Unincorporated Areas of Riverside County | Riverside County Flood Control and Water Conservation District, 1995 Market Street, Riverside, CA 92501.
San Bernardino County, California and Incorporated Areas
Project: 19-09-0025S Preliminary Date: May 25, 2022.
City of Chino | City Hall, 13220 Central Avenue, Chino, CA 91710.
City of Chino Hills | City Hall, 14000 City Center Drive, Chino Hills, CA 91709.
City of Colton | Colton Corporate Yard, 160 South 10th Street, Colton, CA 92324.
City of Rialto | City Hall, 150 South Palm Avenue, Rialto, CA 92376.
Unincorporated Areas of San Bernardino County | San Bernardino County Department of Public Works, 825 East 3rd Street, Water Resources Department—Room 101, San Bernardino, CA 92415.
Ventura County, California and Incorporated Areas
Project: 10-09-0024S Preliminary Dates: July 31, 2020 and August 19, 2022.
City of Santa Paula | City Hall, 970 Ventura Street, Santa Paula, CA 93060.
Unincorporated Areas of Ventura County | Ventura County Government Center Hall of Administration, 800 South Victoria Avenue, Ventura, CA 93009.
Hutchinson County, South Dakota and Incorporated Areas
Project: 18-08-0013S Preliminary Date: August 15, 2022.
City of Freeman | City Hall, 185 East 3rd Street, Freeman, SD 57029.
City of Menno | City Hall, 236 South 5th Street, Menno, SD 57045.
City of Parkston | City Hall, 207 West Main Street, Parkston, SD 57366.
Town of Olivet | Town Hall, 125 South 3rd Street, Olivet, SD 57052.
Unincorporated Areas of Hutchinson County | Hutchinson County Courthouse, 201 West Mentor Street, Olivet, SD 57052.

[FR Doc. 2022-27746 Filed 12-20-22; 8:45 am]

BILLING CODE 9110-12-P